DEPARTMENT OF THE INTERIOR

Bureau of Ocean Energy Management

[Docket No. BOEM-2023-0050]

Notice of Availability of a Draft Environmental Impact Statement for US Wind Inc's Proposed Wind Energy Facility Offshore Maryland

AGENCY: Bureau of Ocean Energy Management (BOEM), Interior.

ACTION: Notice of availability; request for comments.

SUMMARY: BOEM announces the availability of the draft environmental impact statement (DEIS) for the construction and operations plan (COP) submitted by US Wind Inc. (US Wind) for its proposed Maryland Offshore Wind Project (Project) offshore Maryland. The DEIS analyzes the potential environmental impacts of the Project as described in the COP (the proposed action) and the alternatives to the proposed action. This notice of availability (NOA) announces the start of the public review and comment period, as well as the dates and times for public hearings on the DEIS. After BOEM holds the public hearings and addresses comments provided, BOEM will publish a final environmental impact statement (FEIS). The FEIS will inform BOEM's decision whether to approve, approve with modifications, or disapprove the COP.

DATES: Comments must be received no later than November 20, 2023. BOEM will conduct four virtual/in person public hearings. BOEM's public hearings will be held at the following times (eastern time).

• October 19, 2023, 1 p.m.-5 p.m., virtual meeting

• October 24, 2023, 5 p.m.-9 p.m., Ocean City Elementary School, 12828 Center Dr., Ocean City, MD 21842

• October 26, 2023, 5 p.m.-9 p.m., Indian River High School, 29772 Armory Rd., Dagsboro, DE 19939

• October 30, 2023, 5 p.m.-9 p.m., virtual meeting

Registration for the virtual public hearings may be completed here: https://www.boem.gov/renewable-energy/state-activities/us-wind or by calling (703) 787-1520. Registration for the virtual hearings is required. Meeting information will be sent to registrants via their email address provided during registration.

ADDRESSES: The DEIS and detailed information about the Project, including the COP, can be found on BOEM's website at: https://www.boem.gov/renewable-energy/state-activities/us-wind. Comments can be submitted in any of the following ways:

• Orally or in written form during any of the public hearings identified in this NOA.

• In written form by mail or any other delivery service, enclosed in an envelope labeled “US Wind COP DEIS” and addressed to Program Chief, Office of Renewable Energy, Bureau of Ocean Energy Management, 45600 Woodland Road, VAM-OREP, Sterling, VA 20166.

• Through the regulations.gov web portal: Navigate to http://www.regulations.gov and search for Docket No. BOEM-2023-0050. Click on the “Comment” button below the document link. Enter your information and comment, then click “Submit Comment.”

For more information about submitting comments, please see “Information on Submitting Comments” under the SUPPLEMENTARY INFORMATION heading below.

FOR FURTHER INFORMATION CONTACT: Jessica Stromberg, BOEM Office of Renewable Energy Programs, 45600 Woodland Road, VAM-OREP, Sterling, Virginia 20166, (703) 787-1722 or jessica.stromberg@boem.gov.

SUPPLEMENTARY INFORMATION:

Proposed Action: US Wind seeks approval to construct, operate, and maintain the Project: a wind facility up to 2.2 gigawatts on the Outer Continental Shelf (OCS) off the coast of Maryland. The Project would be developed within the range of design parameters outlined in the Maryland Offshore Wind COP, subject to applicable mitigation measures. The Project includes MarWin, a wind farm of approximately 300 megawatts (MW) for which the State of Maryland awarded offshore renewable energy credits (ORECs) to US Wind in 2017; Momentum Wind, consisting of approximately 808 MW for which the State of Maryland awarded US Wind additional ORECs in 2021; and build-out of the remainder of the lease area to fulfill ongoing, government-sanctioned demands for offshore wind energy.

US Wind proposes to construct and operate up to 114 wind turbines and up to four offshore substations with one offshore export cable route under the terms of Renewable Energy Lease OCS-A 0490. The lease area is located ten miles off the coast of Maryland. The onshore components of the Project would include a cable landfall area at 3Rs beach in Delaware. From the landfall, onshore cables would continue along an inshore cable export route in Indian River Bay to connect to a single onshore substation adjacent to the point of interconnection in Dagsboro, Delaware.

Alternatives: BOEM considered 14 alternatives when preparing the DEIS and carried forward five alternatives for further analysis in the DEIS. These five alternatives include four action alternatives and a no action alternative. BOEM rejected nine alternatives because they did not meet the purpose and need for the proposed action or did not meet screening criteria, which are presented in DEIS section 2.2. The screening criteria included consistency with law and regulations; technical and economic feasibility; environmental impact; and geographic considerations.

Availability of the DEIS: The DEIS, Maryland Offshore COP, and associated information are available on BOEM's website at: https://www.boem.gov/renewable-energy/state-activities/us-wind. If you need a flash drive or paper copy, BOEM will provide one upon request, as long as copies are available. You may request a flash drive or paper copy of the DEIS by calling (703) 787-1520.

Cooperating Agencies: The following nine Federal and State agencies participated as cooperating agencies in the preparation of the DEIS: Bureau of Safety and Environmental Enforcement; U.S. Environmental Protection Agency; National Marine Fisheries Service; U.S. Army Corps of Engineers; U.S. Coast Guard; U.S. Fish and Wildlife Service; National Park Service; Maryland Department of the Environment; and Delaware Department of Natural Resources and Environmental Control.

Information on Submitting Comments: BOEM discourages the submittal of anonymous comments. Please include your name and address as part of your comment. BOEM makes all comments, including the names and addresses of respondents, available for public review online and during regular business hours. Individual respondents may request that BOEM withhold their names, addresses, or any other personal identifiable information (PII) included in their comment from the public record; however, BOEM cannot guarantee that it will be able to do so. If you wish your name, address, or other PII to be withheld, you must state your request prominently in a cover letter and explain the harm that you fear from its disclosure, such as unwarranted privacy invasion, embarrassment, or injury. Even if BOEM withholds your information in the context of this notice, your submission is subject to the Freedom of Information Act (FOIA) and any relevant court orders. If your submission is requested under the FOIA or such court order, your information will only be withheld if a determination is made that one of the FOIA's exemptions to disclosure applies or if such court order is challenged. Such a determination will be made in accordance with the Department's FOIA regulations and applicable law.

Please label privileged or confidential information as “Contains Confidential Information,” and consider submitting such information as a separate attachment. Information that is not labeled as privileged or confidential may be regarded by BOEM as suitable for public release.

All submissions from organizations or businesses and from individuals identifying themselves as representatives or officials of organizations or businesses will be made available for public inspection in their entirety.

Authority: 42 U.S.C. 4231 et seq. (NEPA, as amended) and 40 CFR 1506.6.

Karen Baker,
Chief, Office of Renewable Energy Programs, Bureau of Ocean Energy Management.

[FR Doc. 2023-21749 Filed 10-5-23; 8:45 am]

BILLING CODE 4340-98-P